DEPARTMENT OF TRANSPORTATION

Federal Aviation Administration

Environmental Impact Statement: T.F. Green Airport, Warwick, Rhode Island

AGENCY: Federal Aviation Administration (FAA), DOT.

ACTION: Notice of Availability.

SUMMARY: The FAA is issuing this notice to advise the public that a Written Re-Evaluation and Record of Decision (ROD) for an Environmental Impact Statement has been prepared for Theodore Francis Green Airport in Warwick, Rhode Island.

FOR FURTHER INFORMATION CONTACT: Richard Doucette, Environmental Program Manager, Federal Aviation Administration New England, 12 New England Executive Park, Burlington, MA 01803, (781) 238-7613, or at Richard.doucette@faa.gov.

SUPPLEMENTARY INFORMATION: The FAA has issued a Written Re-Evaluation and Record of Decision, which evaluates an updated noise mitigation program at Theodore Francis Green Airport in Warwick, Rhode Island. The Re-Evaluation and ROD is available for review during normal business hours at the following locations:

FAA New England, 16 New England Executive Park, Burlington MA, 781-238-7613

Warwick Central Library, 600 Sandy Lane, Warwick, RI, 401-739-5440

Warwick Library, Apponaug Branch, 3267 Post Road, Warwick, RI, 401-739-6411

Warwick Library, Norwood Branch, 328 Pawtuxet Ave., Warwick, RI, 401-941-7545

Copies of the document can be obtained by contacting Richard Doucette at Richard.doucette@faa.gov or 781-238-7613. It is also available at http://www.faa.gov/airports/new_england/.

Issued on: June 12, 2013.
Richard Doucette,
Environmental Program Manager, Airports Division, FAA New England Region.

[FR Doc. 2013-15472 Filed 6-27-13; 8:45 am]

BILLING CODE 4910-13-P